DEPARTMENT OF TRANSPORTATION

Federal Aviation Administration

14 CFR Part 71

[Docket No. FAA-2015-0793; Airspace Docket No. 15-AEA-3]

Amendment of Class D Airspace; Baltimore, Martin State Airport, MD

AGENCY: Federal Aviation Administration (FAA), DOT.

ACTION: Final rule, technical amendment; correction.

SUMMARY: This action corrects an error in the title of a final rule published in the Federal Register on April 29, 2015, amending Class D Airspace at Martin State Airport, Baltimore, MD. It should read Amendment of Class D Airspace Baltimore, Martin State Airport, MD. This action also corrects reference to Restricted Area R-4001C as being MSL, and corrects the airport designation.

DATES: Effective 0901 UTC, June 25, 2015. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On April 29, 2015, the FAA published a final rule, technical amendment in the Federal Register amending Class D airspace at Martin State Airport, Baltimore, MD. (80 FR 23709). After publication, the FAA found that the title was incorrectly typed as Proposed Amendment of Class E Airspace, Baltimore, MD, instead of Amendment of Class D Airspace, Baltimore, Martin State Airport, MD. This action makes the correction. Also, in the regulatory text, the airport designation is corrected to AEA D MD Baltimore, Martin State Airport, MD; and references to AGL is corrected to MSL.

The Class D airspace designations are published in Paragraph 5000 of FAA Order 7400.9Y, dated August 9, 2014, and effective September 15, 2014, which is incorporated by reference in 14 CFR 71.1. The Class D airspace designation listed in this document will be published subsequently in the Order.

Correction to Final Rule

Accordingly, pursuant to the authority delegated to me, Docket No. FAA-2015-0793, amending Class D airspace at Martin State Airport, Baltimore, MD, as published in the Federal Register on April 29, 2015, (80 FR 23709), FR Doc. 2015-09870, is corrected as follows:

On page 23709, column 1, line 39, remove, “Proposed Amendment of Class E Airspace; Baltimore, MD”, and add in its place, “Amendment of Class D Airspace, Baltimore, Martin State Airport, MD”, and on line 51 remove the abbreviation AGL and add in its place MSL. On page 23710, column 1, line 10, remove “ASO MD D Baltimore, MD [Amended]”, and add in its place “AEA MD D Baltimore, Martin State Airport, MD [Amended]”; and on line 27, remove the abbreviation AGL, and add in its place, MSL.

Issued in College Park, Georgia, on June 10, 2015.
Gerald E. Lynch,
Acting Manager, Operations Support Group, Eastern Service Center, Air Traffic Organization.

[FR Doc. 2015-15130 Filed 6-19-15; 8:45 am]

BILLING CODE 4910-13-P